DEPARTMENT OF VETERANS AFFAIRS

[OMB Control No. 2900-0760]

Agency Information Collection Activity: Paralympics & Olympics Monthly Assistance Allowance Application and Certification

AGENCY: Office of National Veterans Sports Programs and Special Events, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 4, 2020.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0760” in any correspondence. During the comment period, comments may be viewed online through FDMS.

FOR FURTHER INFORMATION CONTACT: Brian McCarthy at (202) 615-9241.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Paralympic & Olympics Monthly Assistance Allowance Application and Certification, VA Forms 0918a and 0918b

OMB Control Number: 2900-0760.

Type of Review: Reinstatement with change of a previously approved collection.

Abstract: Section 703 of the Veterans' Benefits Improvement Act of 2008, Public Law 110-389, authorizes the Department of Veterans Affairs (VA) to administer a monthly assistance allowance to a veteran with a service-connected or non-service-connected disability if the veteran is competing for a slot on or selected for the United States Paralympics or Olympics team or is residing at a United States Paralympics or Olympics training center. The information collected will be used to certify eligibility for the monthly assistance allowance, verify the veteran's mailing address, confirm that he or she has been accepted by the Paralympics or Olympics to compete in a specific Paralympic or Olympic sport, and determine their marital status and number of dependents for the purpose of assessing payment amounts.

Affected Public: Individuals and households.

Estimated Annual Burden: 50 hours.

Estimated Average Burden Per Respondent: 30 minutes.

Frequency of Response: Once annually.

Estimated Number of Respondents: 100.

By direction of the Secretary.
Danny S. Green,
VA Clearance Officer, Office of Quality, Performance and Risk (OQPR), Department of Veterans Affairs.

[FR Doc. 2020-21911 Filed 10-2-20; 8:45 am]

BILLING CODE 8320-01-P